DEPARTMENT OF TRANSPORTATION

National Highway Traffic Safety Administration

[U.S. DOT Docket No. NHTSA-2009-0052]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under the procedures established by the Paperwork Reduction Act of 1995, before seeking OMB approval, Federal agencies must solicit public comment on proposed collections of information, including extensions and reinstatements of previously approved collections. This document describes one collection of information for which NHTSA intends to seek OMB approval.

DATES: Comments must be received on or before May 19, 2009.

ADDRESSES: Direct all written comments to: U.S. Department of Transportation, Docket Management Facility, West Building, 1200 New Jersey Ave, SE., Room W12-140, Washington, DC 20590. You may also submit comments electronically at http://www.regulations.gov. All comments should refer to the docket no. NHTSA-2009-0052.

FOR FURTHER INFORMATION CONTACT: Ms. Eunyoung Lim, Contracting Officer's Technical Representative, Office of Behavioral Safety Research (NTI-131), National Highway Traffic Safety Administration, 1200 New Jersey Ave, SE., Washington, DC 20590. Phone number: 202-366-2755. Email address: eunyoung.lim@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses.

In compliance with these requirements, NHTSA asks public comment on the following proposed collection of information:

National Survey of Speeding Attitudes and Behavior: 2010

Type of Request—New information collection requirement.

OMB Clearance Number—None.

Form Number—This collection of information uses no standard forms.

Requested Expiration Date of Approval—June 30, 2012.

Summary of the Collection of Information—NHTSA proposes to conduct a National Survey of Speeding Attitudes and Behavior by telephone among a national probability sample of 6,000 drivers, age 16 and older. Participation by respondents would be voluntary. Survey topics would include the extent to which drivers speed, attitudes and perceptions about speeding, reasons and motivations for speeding, and knowledge and attitudes towards countermeasure strategies to deter speeding.

In conducting the proposed survey, the interviewers would use computer-assisted telephone interviewing to reduce interview length and minimize recording errors. A Spanish-language translation and bilingual interviewers would be used to minimize language barriers to participation. Interviews will be conducted with respondents using landline phones and with respondents using cell phones. The proposed survey would be anonymous; the survey would not collect any personal information that would allow anyone to identify respondents.

Description of the Need for the Information and Proposed Use of the Information—The National Highway Traffic Safety Administration's (NHTSA) mission is to save lives, prevent injuries, and reduce healthcare and other economic costs associated with motor vehicle crashes. Over thirty percent of all fatal crashes are estimated to be speed-related crashes, defined as racing, exceeding the speed limit, or driving too fast for conditions. Speed-related crashes resulted in 13,040 lives lost in 2007 and an estimated cost of $40.4 billion in 2000. In order to plan and evaluate programs intended to reduce speed-related crashes, NHTSA periodically conducts telephone surveys to update its knowledge and understanding of the public's attitudes and behaviors with respect to speeding issues.

NHTSA has conducted two previous administrations of the National Survey of Speeding Attitudes and Behavior—once in 1997 and again in 2002. In the 2010 survey, NHTSA intends to examine the extent to which drivers speed, who the speeders are, when and why drivers speed, and what countermeasures are most acceptable and effective in reducing speeding. Furthermore, NHTSA plans to assess whether or not self-reported behaviors, attitudes, and perceptions regarding speeding and associated countermeasure strategies have changed over time, since the administration of the 1997 and 2002 national surveys. The findings from this proposed collection of information will assist NHTSA in designing, targeting, and implementing programs intended to reduce speed on the roadways and to provide data to States, localities, and law enforcement agencies that will aid in their efforts to reduce speed-related crashes and injuries.

Description of the Likely Respondents (Including Estimated Number, and Proposed Frequency of Response to the Collection of Information)—Under this proposed effort, the Contractor would conduct telephone interviews averaging approximately 20 minutes in length with 6,000 randomly selected members of the general driving public, age 16 and older. The respondent sample would be selected from all 50 States and the District of Columbia. Interviews would be conducted with randomly selected persons with residential phones or cell phones. Businesses are ineligible for the sample and would not be interviewed. No more than one respondent would be selected per household. Each member of the sample would complete one interview.

Prior to the administration of the survey, a total of 15 pretest interviews, averaging 20 minutes in length would be administered to test the computer programming of the questionnaire, and to determine if any final adjustments to the questionnaire are needed. Following any revisions carried out as a result of the pretest, the Contractor would begin the main survey administration.

Estimate of the Total Annual Reporting and Recordkeeping Burden Resulting From the Collection of Information—NHTSA estimates that respondents will spend an average of 20 minutes each to complete the survey, for a total of 2005 hours for the 15 pretest respondents and 6000 survey respondents. The respondents would not incur any reporting cost from the information collection. The respondents also would not incur any recordkeeping burden or recordkeeping cost from the information collection.

Authority: 44 U.S.C. Section 3506(c)(2)(A)

Jeff Michael,
Associate Administrator, Research and Program Development.

[FR Doc. E9-6116 Filed 3-19-09; 8:45 am]

BILLING CODE 4910-59-P